DEPARTMENT OF THE INTERIOR

National Park Service

36 CFR Part 7

Negotiated Rulemaking Advisory Committee for Off-Road Vehicle Management for Cape Hatteras National Seashore

AGENCY: National Park Service (NPS), Interior.

ACTION: Notice of Meeting Location Change and Additional Public Comment Time for Eighth and Ninth Meetings.

SUMMARY: Notice is hereby given, in accordance with the Federal Advisory Committee Act (Pub. L. 92463, 86 Stat. 770, 5 U.S.C. App 1, section 10), that the meeting location has been changed and an additional public comment time added for the eighth and ninth meeting of the Negotiated Rulemaking Advisory Committee for Off-Road Vehicle (ORV) Management at Cape Hatteras National Seashore. These meetings were noticed on July 8, 2008 at 73 FR 38954. (See DATES section.)

DATES: The Committee will hold its eighth meeting on November 14-15, 2008, from 8:30 a.m. to 5:30 p.m. on November 14, and from 8:30 a.m. to 4 p.m. on November 15. The meeting on both days will be held at the Wright Brothers National Memorial Pavilion, 1000 Croatan Highway (Milepost 7.6), Kill Devil Hills, North Carolina 25948. The Committee will hold its ninth meeting on December 11-12, 2008, from 8:30 a.m. to 5:30 p.m. on December 11, and from 8:30 a.m. to 4 p.m. on December 12. The meeting on both days will be held at the Wright Brothers National Memorial Pavilion, 1000 Croatan Highway (Milepost 7.6), Kill Devil Hills, North Carolina 25948.

These, and any subsequent meetings, will be held for the following reason: To work with the National Park Service to assist in potentially developing special regulations for ORV management at Cape Hatteras National Seashore.

The proposed agenda for these meetings of the Committee may contain the following items: Approval of Meeting Summary from Last Meeting, Subcommittee and Members' Updates since Last Meeting, Alternatives Discussions, National Environmental Policy Act Update, and Public Comment. However, the Committee may modify its agenda during the course of its work. The meetings are open to the public. Interested persons may provide brief oral/written comments to the Committee during the public comment period of the meetings each day before the lunch break and at 5 p.m. on the first day of each meeting or file written comments with the Park Superintendent.

FOR FURTHER INFORMATION CONTACT: Mike Murray, Superintendent, Cape Hatteras National Seashore, 1401 National Park Drive, Manteo, North Carolina 27954, (252) 473-2111, extension 148.

SUPPLEMENTARY INFORMATION: The Committee's function is to assist directly in the development of special regulations for management of ORVs at Cape Hatteras National Seashore (Seashore). Executive Order 11644, as amended by Executive Order 11989, requires certain Federal agencies to publish regulations that provide for administrative designation of the specific areas and trails on which ORV use may be permitted. In response, the NPS published a general regulation at 36 CFR 4.10, which provides that each park that designates routes and areas for ORV use must do so by promulgating a special regulation specific to that park. It also provides that the designation of routes and areas shall comply with Executive Order 11644, and 36 CFR 1.5 regarding closures. Members of the Committee will negotiate to reach consensus on concepts and language to be used as the basis for a proposed special regulation, to be published by the NPS in the Federal Register, governing ORV use at the Seashore. The duties of the Committee are solely advisory.

Dated: September 26, 2008.
Michael B. Murray,
Superintendent, Cape Hatteras National Seashore.

[FR Doc. E8-23779 Filed 10-8-08; 8:45 am]

BILLING CODE 4310-46-M